DEPARTMENT OF COMMERCE

National Oceanic and Atmospheric Administration

50 CFR Part 648

[Docket No. 020215032-2127-02; I.D. 110701D]

RIN 0648-AP59

Fisheries of the Northeastern United States; Final 2002 Specifications for the Atlantic Bluefish Fishery

AGENCY: National Marine Fisheries Service (NMFS), National Oceanic and Atmospheric Administration (NOAA), Commerce.

ACTION: Final 2002 specifications for the Atlantic bluefish fishery.

SUMMARY: NMFS issues 2002 specifications for the Atlantic bluefish fishery, including total allowable harvest levels (TAL), state-by-state commercial quotas, and a recreational harvest limit and possession limit for Atlantic bluefish off the east coast of the United States. The intent of the specifications is to conserve and manage the bluefish resource and provide for sustainable fisheries.

DATES: Effective June 6, 2002, through December 31, 2002.

ADDRESSES: Copies of supporting documents, including the Environmental Assessment (EA), Preliminary Regulatory Economic Evaluation (PREE), Final Regulatory Flexibility Analysis (FRFA) and Essential Fish Habitat Assessment (EFHA) are available from: Daniel Furlong, Executive Director, Mid-Atlantic Fishery Management Council, Room 2115, Federal Building, 300 South New Street, Dover, DE 19904-6790. The EA, PREE, FRFA, EFHA, and Small Entity Compliance Guide are accessible via the Internet at http://www.nmfs.gov/ro/doc/nero.html. The Small Business Compliance Guide is also available from Patricia A. Kurkul, Regional Administrator, Northeast Region, NMFS, 1 Blackburn Drive, Gloucester, MA 01930.

FOR FURTHER INFORMATION CONTACT: Myles Raizin, Fishery Policy Analyst, (978) 281-9104, e-mail at Myles.A.Raizin@noaa.gov, fax at (978) 281-9135.

SUPPLEMENTARY INFORMATION: Regulations implementing the Bluefish Fishery Management Plan (FMP) prepared by the Mid-Atlantic Fishery Management Council (Council) appear at 50 CFR part 648, subparts A and J. Regulations requiring annual specifications are found at § 648.160. The FMP requires that the Council recommend, on an annual basis, Total Allowable Landings (TAL), which is composed of a commercial quota and recreational harvest limit. A proposed rule to implement the 2002 bluefish specifications was published in the Federal Register on March 13, 2002 (67 FR 11276) with a comment period ending March 28, 2002.

Final Specifications

2002 TAL

For the 2002 fishery, the stock rebuilding program in the FMP would restrict F to 0.41. However, the 2000 fishery produced an F of only 0.326. So, in accordance with the FMP, the TAL proposed for 2002 is set to achieve F=0.326. The resulting Total Allowable Catch (TAC) is 29.1 million lb (13.2 million kg). The TAL is calculated by deducting discards, estimated at 2.2 million lb (0.99 million kg) for 2002, from the TAC. Therefore, the TAL for 2002 is 26.866 million lb (12.19 million kg).

2002 Commercial Quotas and Recreational Harvest Limits

If the TAL for the 2002 fishery were allocated based on the percentages specified in the FMP, the commercial quota would be 4.567 million lb (2.07 million kg)(17 percent) with a recreational harvest limit of 22.299 million lb (10.12 million kg)(83 percent). However, recreational landings from the last several years were much lower than the recreational allocation for 2002, ranging between 8.30 and 14.3 million lb (3.76 and 6.49 million kg). Since the recreational fishery is not projected to land a 22.299 million-lb (10.12 million-kg) harvest limit in 2002, this allows the specification of a commercial quota of up to 10.5 million lb (4.76 million kg). NMFS is transferring 5.933 million lb (2.677 million kg) from the initial 2002 recreational allocation of 22.299 million lb (10.12 million kg), resulting in 16.365 million lb (7.42 million kg) allocated for the 2002 recreational harvest limit and a commercial quota of 10.5 million lb (4.76 million kg). The 2002 commercial quota is an increase from the 2001 quota (9.58 million lb (4.35 million kg)) implemented by NMFS and the states under the Atlantic States Marine Fisheries Commission's Interstate Fishery Management Plan for Atlantic Bluefish. The recreational possession limit of 15 fish per person is unchanged from 2001. The proposed specifications included a 2-percent TAL set aside. A Request for Proposals was published to solicit proposals for 2002, based on research priorities identified by the Council (66 FR 38636, July 25, 2001, and 66 FR 45668, August 29, 2001). No proposals were approved that would utilize the bluefish research TAL. Therefore, for the 2002 fishery, the research TAL is restored to the overall TAL. The 2002 state commercial quotas are listed in the table below.

State | % of quota | 2002 Commercial Quota (lb) | 2002 Commercial Quota (kg)
ME | 0.6685 | 70,193 | 31,839
NH | 0.4145 | 43,523 | 19,741
MA | 6.7167 | 705,254 | 319,898
RI | 6.8081 | 714,851 | 324,251
CT | 1.2663 | 132,962 | 60,310
NY | 10.3851 | 1,090,436 | 494,613
NJ | 14.8162 | 1,555,701 | 705,654
DE | 1.8782 | 197,211 | 89,453
MD | 3.0018 | 315,189 | 142,967
VA | 11.8795 | 1,247,348 | 565,787
NC | 32.0608 | 3,366,384 | 1,526,966
SC | 0.0352 | 3,696 | 1,676
GA | 0.0095 | 998 | 452
FL | 10.0597 | 1,056,269 | 479,115
Total | 100.0000 | 10,500,000 | 4,762,720

Comments and Responses

Ten sets of public comments were received on the proposed rule: nine from recreational fishermen and one from a recreational fishing association.

Comment 1: Several commentors stated that recreational fishermen have participated in a catch-and-release program to reduce pressure on the bluefish stock. They are of the opinion that it is not fair to transfer poundage from the recreational harvest limit to the commercial quota because doing so means that catch-and-release efforts result in an increased commercial quota.

Response 1: The poundage transfer provision was included in Amendment 1 to the FMP (Amendment 1) to ensure that commercial landings would not be unnecessarily reduced if the recreational fishery is not expected to attain its harvest limit. The 83 percent/17 percent (recreational/commercial) allocation adopted by the Council in Amendment 1 is based on average catch composition for the 1981-1989 fisheries. However, the average catch composition for the 1990-1996 fisheries was 64 percent/36 percent with an average of 10.5 million lb (4.76 million kg) per year in commercial landings over that period. Therefore, a 10.5 million-lb (4.76 million-kg) maximum allowable commercial allocation does not represent a substantial increase from landings in the recent commercial fishery. The relatively high percentage of commercial landings to recreational landings in the 1990-96 fishery was a result of decreased recreational landings over that period. Information is not available to determine if the decrease in recreational landings from 1990-1996 is a result of catch-and-release programs, a change in targeted species, such as striped bass, or other factors.

Comment 2: Several commentors stated that, even if the recreational harvest limit has not been met, there is no reason to transfer quota from the recreational harvest limit to the commercial quota. The commenters believe this rewards commercial fishermen for overfishing.

Response 2: NMFS does not view “the transfer of quota” as a reward for overfishing. The Council and NMFS in this instance are concerned about meeting the FMP's objectives of preventing overfishing and maintaining landings of bluefish at an amount that complies with the rebuilding schedule for this fish stock. Both of those objectives are met with an F that would equal 0.326 in 2002. The TAL for 2002 is 26.866 million lb (12.19 million kg) and is consistent with an F of 0.326 which prevents overfishing and is actually less than the maximum level of F of 0.410, specified in the FMP as the rebuilding target for 2002. Therefore, a commercial harvest of 10.5 million lb (4.76 million kg) plus recreational landings of 16.36 million lb (7.43 million kg) would not result in overfishing. This allocation of the bluefish TAL (compared with smaller amount allocated to the commercial sector) also better ensures achievement of optimum yield and fair allocation among sectors which are goals of the Magnuson-Stevens Act.

Classification

This final rule has been determined to be not significant for purposes of Executive Order 12866.

NMFS prepared an FRFA for this action, which includes the IRFA, the comments and responses contained herein, and a summary of the analyses done in support of this final rule. A copy of the FRFA is available from NMFS (see ADDRESSES). The preamble to the proposed rule included a detailed summary of the analyses contained in the IRFA and that discussion is not repeated in its entirety here. A summary of the FRFA follows:

The reasons for the agency's consideration of this action and its objectives are explained in the preambles to the proposed rule and this final rule and are not repeated here. This action does not contain reporting and recordkeeping requirements. It will not duplicate, overlap, or conflict with any other Federal rules. This action is taken under authority of the Magnuson-Stevens Fishery Conservation and Management Act and regulations at 50 CFR part 648.

Public Comments

Ten sets of comments were received on the proposed rule and are responded to in the final rule. None of the comments directly or indirectly addressed the results of the IRFA.

Number of Small Entities

An active participant in the commercial sector is defined as any vessel that reported having landed 1 or more pounds of bluefish in the dealer data during calendar year 2000. These data cover activity by unique vessels. Of the active vessels reported in 2000, 829 vessels landed bluefish from Maine to North Carolina. The dealer data do not provide information about vessel activity in the states from South Carolina to Florida. The dealer data indicate that 126 federally permitted vessels landed bluefish in North Carolina in 2000. State trip Ticket Reports indicate that 1,088 vessels landed bluefish in North Carolina in 2000. Some of these vessels may be included in the 126 vessels identified in the Federal dealer data. As such, double counting is possible. In addition, the most recent data available indicate that 136 vessels landed bluefish on Florida's east coast in 1999. Bluefish landings in South Carolina and Georgia are negligible; therefore, it was assumed there was no vessel activity for those two states. In addition, it was estimated that, in recent years, approximately 2,063 party/charter vessels may have caught bluefish.

Minimizing Economic Impacts on Small Entities

The FMP includes a provision to minimize economic impacts on commercial vessels in states that face closure by allowing states to transfer surplus commercial quota within the coastwide allocation. However, under certain circumstances where state surplus quotas are not available for transfer, there are no other means to mitigate significant economic impact. The commercial quota of 10.50 million lb (4.76 million kg) would result in allocations of 1.09 million lb (0.49 million kg) of bluefish to New York and 3.37 million lb (1.53 million kg) to North Carolina. Actual 2001 landings amounted to 1.19 million lb (0.54 million kg) for New York and 3.58 million lb (1.63 million kg) for North Carolina. All other states landed less bluefish in 2001 than their proposed 2002 allocations, and, therefore, will likely not be negatively impacted by the 2002 allocations. Under the assumption that 2002 allocations for New York and North Carolina represent harvest constraints to those fisheries, and bluefish abundance and harvesting capacity would allow those states to harvest an amount equal to their 2001 landings, there could be an 8-percent reduction in bluefish revenues in New York and a 6—percent reduction in bluefish revenues in North Carolina when compared to 2001 landings. Based on 2001 state landings, the 2002 state quotas are not expected to be reached in all states. Consequently, transfers could take place to offset overages in some states.

Section 212 of the Small Business Regulatory Enforcement Fairness Act of 1996 states that for each rule or group of related rules for which an agency is required to prepare an FRFA, the agency shall publish one or more guides to assist small entities in complying with the rule, and shall designate such publications as “small entity compliance guides.” The agency shall explain the actions a small entity is required to take to comply with a rule or group of rules. As part of this rulemaking process, a small entity compliance guide was prepared. The guide will be sent to all holders of permits issued for the Atlantic bluefish fishery. In addition, copies of this final rule and guide (i.e., permit holder letter) are available from the Regional Administrator (see ADDRESSES) and are also available at the following web site:

http://www.nmfs.gov/ro/doc/nero.html.

Dated: June 3, 2002.
William T. Hogarth,
Assistant Administrator for Fisheries, National Marine Fisheries Service.

[FR Doc. 02-14235 Filed 6-5-02; 8:45 am]

BILLING CODE 3510-22-S